DEPARTMENT OF JUSTICE

National Institute of Corrections

Solicitation for a Cooperative Agreement—Gender-Informed Research (Women): Enhanced Approaches to Project Development

AGENCY: National Institute of Corrections, U.S. Department of Justice.

ACTION: Solicitation for a Cooperative Agreement.

SUMMARY: The National Institute of Corrections (NIC) is seeking applications from organizations, groups, or individuals to enter into a cooperative agreement with NIC for an 18-month period to begin no later than September 15, 2013. Work under this cooperative agreement will involve convening a working group with the purpose of identifying key areas of gender-informed knowledge specific to women that will both inform a future research agenda and define a project that would further incorporate these keys areas into NIC initiatives and provide further guidance for policymakers and practitioners in their management of this population. The audience for this project is quite broad, representing all aspects of corrections (jails, prisons, and community corrections), the research and academic community, other Federal agencies, state and local entities and other related stakeholders that have an interest in this population. The deliverables from this solicitation will be based on research and theory and are meant to provide a medium to inform NIC initiatives as well as more generally the corrections field, with the goal of improved system and individual outcomes. This project will be a collaborative venture with the NIC Community Services Division.

NIC Opportunity Number: 13CS12 This number should appear in the reference line in your cover letter, on Standard Form 424 in section 11 with the title of your proposal, and in the right justified header of your proposal.

Number of Awards and Funds Available: Under this solicitation, 1 (one) Award will be made. The total amount of funds available under this solicitation is $65,000.00.

Applications: All applicants must be submitted electronically via http://www.grants.gov. Hand delivered, mailed, faxed, or emailed applications will not be accepted.

DATES: Application must be submitted before midnight on Tuesday, July 9, 2013.

Authority: Public Law 93-415.

Eligibility of Applicants: An eligible applicant is any public or private agency, educational institution, organization, individual or team with expertise in the described areas.

SUPPLEMENTARY INFORMATION: Background: Historically, studies focusing on the management of correctional populations have drawn their inferences from samples that have been predominantly male, with hypotheses developed from those same bodies of research. Much of that research applies to both justice-involved women and men, and the incorporation of that research in correctional policy and practice has advanced the profession and contributed to the improved use of resources. However, there has been emerging research specific to justice-involved women and the most significant innovation in policy, practice, and gender-informed programs for women has occurred during the past 10 years or so.

In 2006, NIC convened a meeting of researchers and practitioners focusing on the evidence-based research that was often perceived as being equally applicable to both men and women and gender-informed research, which has been developed on samples composed entirely of women. The purpose of that event was to identify important key findings regarding gender-responsive strategies and evidence-based practices; develop consensus on areas of convergence across the bodies of knowledge; explore those beliefs and assumptions that were not yet fully supported by large bodies of research but could nonetheless guide future research and policy with justice-involved women; identify key research questions; and discuss the ways that NIC could guide the field in its work with this population. Emanating from the 2006 meeting were areas of consensus within the bodies of research; areas identified as more salient with women than men; the importance of incorporating trauma-informed practice into supervision and treatment; use of interventions that are gender-responsive to achieve the greatest outcomes for women; and a need to clarify behaviors for women that contribute to their risk.

In the ensuing 7 years, many of the recommendations have been incorporated into NIC's initiatives with women (e.g., women's risk and need assessments and a case management model, gender-informed practice assessments for women's institutions, training programs and technical assistance) and are available for use in the corrections field.

The precepts of evidence-based practice continue to be a hallmark of good correctional practice. Other emerging areas of research are also being incorporated into correctional policy and procedure. Research on the role of identifying strengths and resiliency, sources of social capital, add to our understanding of justice-involved programming and supervision. As the United States continues to top the world's rates of incarceration, increased attention is also being given to research on decarceration, desistance, and re-entry from prison and jail settings. NIC has worked in this area for a number of years, and more recently, the Federal Interagency Reentry Council at the U.S. Department of Justice was created to further address community safety through reductions in recidivism and victimization, assisting those returning from jail and prison to the community in becoming productive citizens by addressing the financial and collateral costs of incarceration. A working group stemming from the larger federal initiative was subsequently formed, focusing on issues affecting women not unlike the ones noted above.

Other more recent contributions to improving correctional practice has been the creation of the Prison Rape Elimination Act (PREA) National Standards to Prevent, Detect, and Respond to Prison Rape, which were built upon extensive research and outreach to affected groups. This is but a small sampling of some of the changes that have been emerging over the very recent past. They call for the development of opportunities to share this information with practitioners for use in their correctional practice with justice-involved women.

Scope of Work: In full collaboration with NIC, the awardee will facilitate a planning/work session composed of researchers and practitioners with expertise in evidence-based, gender-informed research, policy, and practice. In preparation for the working session, the awardee will: identify the range of topics that will form the basis of the work of the planning group; develop a bibliography of relevant materials; identify various subject matter experts based on their skills, knowledge, and expertise and be responsible for their costs to participate in the planning/work session; designate roles and tasks that need to be accomplished by participants and convey that information prior to the onsite meeting; determine a meeting site and develop an agenda, stating clear outcomes for the meeting; provide meeting facilitation; share with all participants a record of the meeting, which will subsequently be made available on the NIC Web site; engage with NIC project staff, work session participants and other identified designated experts to develop identified deliverables.

Deliverables: Project deliverables will include (1) An annotated bibliography highlighting the emerging research applicable to the management of justice-involved women; (2) identification and an outline of a proposed initiative that will be informed by the key research noted above (e.g., elements of desistance that can be incorporated into a project contributing to improved outcomes for justice-involved women); (3) preparation of materials and (4) the conducting of a series of webinar events to highlight the key emerging research and knowledge for a broad correctional audience and relevant stakeholders.

This project will be completed in conjunction with the NIC Community Services Division and the awardee will work closely with NIC staff on all aspects of the project. The awardee will participate in an initial meeting with designated NIC staff for a project overview and preliminary planning. Additionally, the awardee will meet routinely with NIC staff to discuss the activities noted in the project timeline submitted during the course of the cooperative agreement. Meetings will be held no less than quarterly and may be conducted via webinar with at least one onsite as agreed upon by NIC and the awardee.

FOR FURTHER INFORMATION CONTACT: All technical or programmatic questions concerning this announcement should be directed to Maureen Buell, Correctional Program Specialist, National Institute of Corrections, Community Services Division who may be reached by email at mbuell@bop.gov In addition to the direct reply, all questions and responses will be posted on NIC's Web site at www.nicic.gov for public review (the names or affiliations of those submitting questions will not be posted). The Web site will be updated regularly and postings will remain on the Web site until the closing date of this cooperative agreement solicitation.

Application Requirements: Applications should be typed, double spaced, in 12-point font, and reference the project by the “NIC Opportunity Number” 13CS12 and title in this announcement, “Gender-Informed Research (Women): Enhanced Approaches to Project Development.” The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Failure to supply all required forms with the application package may result in disqualification of the application from consideration.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1). Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished to include the overall project goal(s), major tasks to achieve the goals(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to achieve all project tasks? Does the proposal contain project management and staffing plans that are realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other media submitted for posting on the NIC Web site must meet the federal government's requirement for accessibility (508 PDF or HTML file). The awardee must provide descriptive text interpreting all graphics, photos, graphs, and/or multimedia to be included with or distributed alongside the materials and must provide transcripts for all applicable audio/visual works.

Note Concerning Catalog of Federal Domestic Assistance Number: This number should be entered in section 10 of the Application for Federal Assistance (SF-424). If your application is for Training and Staff Development, enter 16.601 in section 10 of the SF-424. If your application is for Research and Policy Formulation, enter 16.602 in the section. If you have entered 16.601 or 16.602 in section 10 of the SF-424, you are not subject to the provisions of Executive Order 12372 and should check Box b. in section 16.

Robert M. Brown, Jr.,
Acting Director, National Institute of Corrections.

Required Expertise: The successful applicant, and if there are identified partner(s) will, at a minimum, have a thorough understanding of the applicable research specific to evidence-based, gender-responsive research and knowledge and can provide examples of how this knowledge has been applied to projects specific to justice-involved women; the ability to identify and access relevant research resources and organize materials into a bibliography; expertise in meeting facilitation; the ability to translate content of the working group discussion into a record of the meeting; demonstrated experience in developing and conducting remote training events; and the organizational capacity to carry out the deliverables of this project.

The narrative portion of the application should include, at a minimum, a statement indicating the applicant's understanding of the project's purpose and objectives. The applicant should state this in language that is not merely a restatement of that used in the solicitation.

Project Design and Implementation: This section should describe the design and implementation of the project and how the awardee aims to address key design and implementation issues and challenges.

Project Management: Chart of measurable project milestones and timelines must be prepared and detail the tasks necessary for the completion of each milestone.

Capabilities and Competencies: This section should describe the qualifications of the applicant organization, any partner organizations to do the work proposed, and the expertise of key staff to be involved in the project. Attach resumes that document relevant knowledge, skills, and abilities needed for each staff member assigned to complete the project. If the applicant organization has completed similar projects in the past, please include the URL/Web site or ISBN number for accessing a copy of the referenced work.

Budget: The budget should detail all costs for the project, show consideration for all contingencies for the project, note a commitment to work within the proposed budget, and demonstrate the ability to provide deliverables according to schedule.

Among the criteria used to evaluate the applications are indication of a clear understanding of the project requirements as stated in the solicitation; background, experience, and expertise of the proposed project staff, including any sub-contractors; effectiveness of an innovative approach to the project; a clear, concise description of all elements and tasks of the project, with sufficient and realistic timeframes necessary to complete the tasks; technical soundness of project design and methodology; financial and administrative integrity of the proposal, including adherence to federal financial guidelines and processes; a sufficiently detailed budget that shows consideration of all contingencies for this project and commitment to work within the proposed budget; and indication of availability to work with NIC staff.

[FR Doc. 2013-13950 Filed 6-11-13; 8:45 am]

BILLING CODE 4410-36-P